DEPARTMENT OF HEALTH AND HUMAN SERVICES

Centers for Disease Control and Prevention

Health Resources and Services Administration CDC/HRSA Advisory Committee on HIV and STD Prevention and Treatment (CHACHSPT)

In accordance with section 10(a)(2) of the Federal Advisory Committee Act (Pub. L. 92-463), CDC/HRSA announces the following meeting of the aforementioned committee:

Times and Dates:

8 a.m.-5:30 p.m., November 15, 2010.

8 a.m.-3 p.m., November 16, 2010.

Place: Omni Shoreham Hotel, 2500 Calvert Street, NW., (at Connecticut Avenue) Washington, DC 20008. Telephone: (202) 234-0700.

Status: Open to the public, limited only by the space available. The meeting room will accommodate approximately 100 people.

Purpose: This Committee is charged with advising the Director, CDC, and the Administrator, HRSA, regarding activities related to prevention and control of HIV/AIDS and other STDs; the support of health care services to persons living with HIV/AIDS; and the education of health professionals and the public about HIV/AIDS and other STDs.

Matters To Be Discussed: Agenda items include issues regarding: (1) HHS coordination and implementation of the National HIV/AIDS Strategy; (2) CHACHSPT Realignment Program Review Workgroup update; (3) update on strategies to educate the medical community on the need to routinely offer HIV testing to females, older persons, and other patients determined to be at low risk; and (4) updates on HIV prevention research and program implementation.

Agenda items are subject to change as priorities dictate.

Contact Person for More Information: Margie Scott-Cseh, CDC, National Center for HIV/AIDS, Viral Hepatitis, STD, and TB Prevention, 1600 Clifton Road, NE., Mailstop E-07, Atlanta, Georgia 30333, Telephone (404) 639-8317.

The Director, Management Analysis and Services Office, has been delegated the authority to sign Federal Register Notices pertaining to announcements of meetings and other committee management activities, for both the CDC and the Agency for Toxic Substances and Disease Registry.

Dated: October 8, 2010.
Elaine L. Baker,
Director, Management Analysis and Services Office, Centers for Disease Control and Prevention.

[FR Doc. 2010-26144 Filed 10-15-10; 8:45 am]

BILLING CODE 4163-18-P